DEPARTMENT OF COMMERCE

International Trade Administration

[A-570-067]

Forged Steel Fittings From the People's Republic of China: Final Results of the Antidumping Duty Administrative Review; 2022-2023

AGENCY: Enforcement and Compliance, International Trade Administration, U.S. Department of Commerce.

SUMMARY: The U.S. Department of Commerce (Commerce) determines that Yingkou Guangming Pipeline Industry Co., Ltd. (Yingkou Guangming), the sole mandatory respondent in this review, and Jiangsu Forged Pipe Fittings Co., Ltd. (Jiangsu Forged), are not eligible for a separate rate in the above-referenced administrative review of the antidumping duty order on forged steel fittings from the People's Republic of China (China), and are to be considered part of the China-wide entity The period of review (POR) is November 1, 2022, through October 31, 2023.

DATES: Applicable December 10, 2024.

FOR FURTHER INFORMATION CONTACT: Hannah Lee or Robert Palmer, AD/CVD Operations, Office VIII, Enforcement and Compliance, International Trade Administration, Department of Commerce, 1401 Constitution Avenue NW, Washington, DC 20230; telephone: (202) 482-1216 and (202) 482-9068, respectively.

SUPPLEMENTARY INFORMATION:

Background

Commerce published the Preliminary Results on August 13, 2024, and invited interested parties to comment.¹ We received no comments on the Preliminary Results and have made no changes to the Preliminary Results. Accordingly, no decision memoranda accompany this notice, and the final results are unchanged from the Preliminary Results. Commerce conducted this administrative review in accordance with section 751(a) of the Tariff Act of 1930, as amended (the Act).

¹ See Forged Steel Fittings from the People's Republic of China: Preliminary Results of Antidumping Duty Administrative Review and Rescission of Review, in Part; 2022-2023, 89 FR 65860 (August 13, 2024) (Preliminary Results), and accompanying Preliminary Decision Memorandum (PDM).

Scope of the Order ²

² See Forged Steel Fittings from Italy and the People's Republic of China: Antidumping Duty Orders, 83 FR 60397 (November 26, 2018) (Order).

The merchandise covered by the Order is carbon and alloy forged steel fittings, whether unfinished (commonly known as blanks or rough forgings) or finished. Such fittings are made in a variety of shapes including, but not limited to, elbows, tees, crosses, laterals, couplings, reducers, caps, plugs, bushings, unions, and outlets. Forged steel fittings are covered regardless of end finish, whether threaded, socket-weld or other end connections.

While these fittings are generally manufactured to specifications ASME B16.11, MSS SP-79, MSS SP-83, MSS SP-97, ASTM A105, ASTM A350 and ASTM A182, the scope is not limited to fittings made to these specifications.

The term forged is an industry term used to describe a class of products included in applicable standards, and does not reference an exclusive manufacturing process. Forged steel fittings are not manufactured from casting. Pursuant to the applicable specifications, subject fittings may also be machined from bar stock or machined from seamless pipe and tube.

All types of fittings are included in the scope regardless of nominal pipe size (which may or may not be expressed in inches of nominal pipe size), pressure rating (usually, but not necessarily expressed in pounds of pressure/PSI, e.g., 2,000 or 2M; 3,000 or 3M; 6,000 or 6M; 9,000 or 9M), wall thickness, and whether or not heat treated. Excluded from this scope are all fittings entirely made of stainless steel. Also excluded are flanges, butt weld fittings, butt weld outlets, nipples, and all fittings that have a maximum pressure rating of 300 pounds of pressure/PSI or less. Also excluded are fittings certified or made to the following standards, so long as the fittings are not also manufactured to the specifications of ASME B16.11, MSS SP-79, MSS SP-83, MSS SP-97, ASTM A105, ASTM A350, and ASTM A182:

• American Petroleum Institute (API) 5CT, API 5L, or API 11B

• Society of Automotive Engineering (SAE) J476, SAE J514, SAE J516, SAE J517, SAE J518, SAE J1026, SAE J1231, SAE J1453, SAE J1926, J2044, or SAE AS 35411

• Underwriter's Laboratories (UL) certified electrical conduit fittings

• ASTM A153, A536, A576, or A865

• Casing Conductor Connectors 16-42 inches in diameter made to proprietary specifications

• Military Specification (MIL) MIL-C-4109F and MIL-F-3541

• International Organization for Standardization (ISO) ISO6150-B

To be excluded from the scope, products must have the appropriate standard or pressure markings and/or be accompanied by documentation showing product compliance to the applicable standard or pressure, e.g., “API 5CT” mark and/or a mill certification report. Subject carbon and alloy forged steel fittings are normally entered under Harmonized Tariff Schedule of the United States (HTSUS) subheadings 7307.99.1000, 7307.99.3000, 7307.99.5045, and 7307.99.5060. They also may be entered under HTSUS subheadings 7307.92.3010, 7307.92.3030, 7307.92.9000, and 7326.19.0010. The HTSUS subheadings and specifications are provided for convenience and customs purposes; the written description of the scope is dispositive.

Final Results of Review

In the Preliminary Results, Commerce preliminarily determined that Jiangsu Forged and Yingkou Guangming had not established their eligibility for a separate rate.³ As such, we preliminarily determined that Jiangsu Forged and Yingkou Guangming were part of the China-wide entity.⁴ Because we received no comments, we made no changes from the Preliminary Results and we continue to find that Jiangsu Forged and Yingkou Guangming are part of the China-wide entity.

³ See Preliminary Results PDM at 6.

⁴ Id.

Commerce's policy regarding conditional review of the China-wide entity applies to this administrative review.⁵ Under this policy, the China-wide entity will not be under review unless a party specifically requests and Commerce initiates, or Commerce self-initiates, a review of the China-wide entity.⁶ Because no party requested a review of the China-wide entity and Commerce did not self-initiate a review of the China-wide entity for this review period, the China-wide entity is not under review and the China-wide entity's rate (i.e., 142.72 percent ⁷) is not subject to change.

⁵ See Antidumping Proceedings: Announcement of Change in Department Practice for Respondent Selection in Antidumping Proceedings and Conditional Review of the Nonmarket Economy Entity in NME Antidumping Duty Proceedings, 78 FR 65963 (November 4, 2013).

⁶ Id.

⁷ See Order, 83 FR 60399.

Disclosure

Normally, Commerce discloses to interested parties the calculations of the final results of an administrative review within five days of a public announcement or, if there is no public announcement, within five days of the date of publication of the notice of final results in the Federal Register, in accordance with 19 CFR 351.224(b). However, because we made no changes from the Preliminary Results, there are no calculations to disclose.

Assessment Rates

Pursuant to section 751(a)(2)(C) of the Act and 19 CFR 351.212(b), Commerce has determined, and U.S. Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

We will instruct CBP to assess antidumping duties on all appropriate entries covered by this review, when the company-specific weighted-average dumping margin is not zero or de minimis (i.e., less than 0.50 percent), or when the importer-specific assessment rate calculated in the final results of this review is not zero or de minimis. ⁸

⁸ See 19 CFR 351.106(c)(2).

Because Commerce finds both companies are part of the China-wide entity in the final results, Commerce will instruct CBP to apply an ad valorem assessment rate of 142.72 percent to all entries of subject merchandise during the POR which were exported by the China-wide entity, which includes Jiangsu Forged and Yingkou Guangming.

Cash Deposit Requirements

The following cash deposit requirements will be effective upon publication of the final results of this administrative review for shipments of the subject merchandise from China entered, or withdrawn from warehouse, for consumption on or after the publication date, as provided by section 751(a)(2)(C) of the Act: (1) for previously examined Chinese and non-Chinese exporters for which a review was not requested and that received a separate rate in a prior segment of this proceeding, the cash deposit rate will continue to be the existing exporter-specific rate; (2) for all Chinese exporters of subject merchandise that have not been found to be entitled to a separate rate, the cash deposit rate will be the rate for the China-wide entity (i.e., 142.72 percent); and (3) for all non-Chinese exporters of subject merchandise which have not received their own separate rate, the cash deposit rate will be the rate applicable to the Chinese exporter that supplied that non-Chinese exporter. These cash deposit requirements, when imposed, shall remain in effect until further notice.

Notification to Importers

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

These final results and notice are issued and published in accordance with sections 751(a)(1) and 777(i)(1) of the Act, and 19 CFR 351.213(h) and 19 CFR 351.221(b)(5).

Dated: December 4, 2024.
Abdelali Elouaradia,
Deputy Assistant Secretary for Enforcement and Compliance.

[FR Doc. 2024-28928 Filed 12-9-24; 8:45 am]

BILLING CODE 3510-DS-P